DEPARTMENT OF HOMELAND SECURITY

Coast Guard

33 CFR Part 117

[USCG-2013-0426]

Drawbridge Operation Regulations; Reynolds Channel, Nassau, NY

AGENCY: Coast Guard, DHS.

ACTION: Notice of temporary deviation from regulations.

SUMMARY: The Commander, First Coast Guard District, has issued a temporary deviation from the regulation governing the operation of the Long Beach Bridge, mile 4.7, across Reynolds Channel at Nassau, New York. Under this temporary deviation, the bridge may remain in the closed position for two and a half hours to facilitate a public event, the Town of Hempstead Annual Fireworks Display.

DATES: This deviation is effective between 9:30 p.m. and 12 a.m. on June 29, 2013 and June 30, 2013.

ADDRESSES: The docket for this deviation, [USCG-2013-0426] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Barbara Hairston, Program Manager, Docket Operations, telephone 202-366-9826.

SUPPLEMENTARY INFORMATION: The Long Beach Bridge has a vertical clearance of 20 feet at mean high water, and 24 feet at mean low water in the closed position. The existing drawbridge operating regulations are found at 33 CFR 117.799(g).

The bridge owner, the County of Nassau Department of Public Works, requested a bridge closure to facilitate a public event, the Town of Hempstead Annual Salute to Veterans Fireworks Display.

Under this temporary deviation, the Long Beach Bridge may remain in the closed position between 9:30 p.m. on June 29, 2013 and 12 a.m. on June 30, 2013, with a rain date of June 30, 2013 and July 1, 2013.

Reynolds Creek has commercial and recreational vessel traffic. No objections were received from the waterway users.

In accordance with 33 CFR 117.35(e), the bridge must return to its regular operating schedule immediately at the end of the designated deviation period. This deviation from the operating regulations is authorized under 33 CFR 117.35.

Dated: June 11, 2013.
Gary Kassof,
Bridge Program Manager, First Coast Guard District.

[FR Doc. 2013-14789 Filed 6-20-13; 8:45 am]

BILLING CODE 9110-04-P